FEDERAL DEPOSIT INSURANCE CORPORATION

[OMB No. 3064-0057; -0112; -0127; -0140; -0175; -0198]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0057; -0112; -0127; -0140; -0175; -0198).

DATES: Comments must be submitted on or before May 18, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Quarterly Certified Statement Invoice for Deposit Insurance Assessment.

OMB Number: 3064-0057.

Affected Public: FDIC-insured depository institutions.

Burden Estimate:

Summary of Annual Burden
Information collection description | Type of burden | Obligation to respond | Estimated number of respondents | Estimated frequency of responses | Estimated time per response (minutes) | Estimated annual burden (hours)
Certified Statement for Quarterly Deposit Insurance Assessment (FDIC Form 6420/07) | Reporting | Mandatory | 5,258 | Quarterly | 20 | 6,941

Total Estimated Annual Burden: 6,941 hours.

General Description of Collection: The FDIC collects deposit insurance assessments on a quarterly basis. Each quarterly assessment is based on an insured depository institution's quarterly report of condition for the prior calendar quarter. The FDIC collects the quarterly assessment payments by means of direct debits through the Automated Clearing House network. The information collection consists of the reporting requirement associated with certifying the review by officials of the insured institutions to confirm that the assessment data are accurate and, in cases of inaccuracy, submission of corrected data.

2. Title: Real Estate Lending Standards.

OMB Number: 3064-0112.

Affected Public: Insured state nonmember banks and state savings associations.

Burden Estimate:

Summary of Annual Burden
Information collection description | Type of burden | Obligation to respond | Estimated number of respondents | Estimated frequency of responses | Estimated time per response (minutes) | Estimated annual burden (hours)
Real Estate Lending Standards | Recordkeeping | Mandatory | 3,344 | On Occasion | 20 | 1,115

Total Estimated Annual Burden: 1,115 hours.

General Description of Collection: Section 1828(o) of the Federal Deposit Insurance Act requires each federal banking agency to adopt uniform regulations prescribing real estate lending standards. Part 365 of the FDIC Rules and Regulations, which implements section 1828(o), requires institutions to have real estate lending policies that include (a) limits and standards consistent with safe and sound banking practices; (b) prudent underwriting standards, including loan-to-value ratio (LTV) limits that are clear and measurable; (c) loan administration policies; (d) documentation, approval and reporting requirements; and (e) a requirement for annual review and approval by the board of directors. The rule also establishes supervisory LTV limits and other underwriting considerations in the form of guidelines. Since banks generally have written policies on real estate lending, the additional burden imposed by this regulation is limited to modifications to existing policies necessary to bring those policies into compliance with the regulation and the development of a system to report loans in excess of the guidelines to the board of directors.

3. Title: Fast-Track Generic Clearance for the Collection of Qualitative Feedback.

OMB Number: 3064-0127.

Affected Public: General public including FDIC insured depository institutions.

Burden Estimate:

Summary of Annual Burden
Information collection description | Type of burden | Obligation to respond | Estimated number of respondents | Estimated frequency of responses | Estimated time per response (minutes) | Estimated annual burden (hours)
Occasional Qualitative Surveys | Reporting | Voluntary | 850 | 15 | 60 | 12,750
Total Estimated Annual Burden |  |  |  |  |  | 12,750

General Description of Collection: The FDIC is requesting renewal of this approved collection to use occasional qualitative surveys to gather information from the public. While the subject and nature of the surveys to be deployed under this information collection are yet to be determined, based on prior experience it is expected that the number of respondents will range from a few to, at times several thousands, but, in general, these surveys are expected to involve an average of 850 respondents. Likewise, the time to respond to the surveys can range from a few minutes to several hours. It is expected that the average time to respond to a survey is approximately one hour. These surveys are completely voluntary in nature. FDIC estimates that approximately 15 such surveys will be conducted in any given year.

The purpose of the surveys is, in general terms, to obtain anecdotal information about regulatory burden, problems or successes in the bank supervisory process (including both safety-and-soundness and consumer-related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The information is used to improve the way FDIC relates to its clients, to develop agendas for regulatory or statutory change, and in some cases simply to learn how particular policies or programs are working, or are perceived in particular cases.

4. Title: Insurance Sales Consumer Protection.

OMB Number: 3064-0140.

Affected Public: Insured State nonmember banks and savings associations that sell insurance products; persons who sell insurance products in or on behalf of insured State nonmember banks and savings associations.

Type of Burden: Third-party disclosure.

Obligation to Respond: Mandatory.

Burden Estimate:

Summary of annual burden
Information collection description | Type of burden | Obligation to respond | Estimated number of respondents | Estimated frequency of response | Estimated time per response (hours) | Estimated annual burden (hours)
Insurance Sales Consumer Protections | Third Party Disclosure | Mandatory | 1,774 | On Occasion | 5 | 8,870
Total Estimated Annual Burden |  |  |  |  |  | 8,870

General Description of Collection: Respondents must prepare and provide certain disclosures to consumers (e.g., that insurance products and annuities are not FDIC-insured) and obtain consumer acknowledgments, at two different times: (1) Before the completion of the initial sale of an insurance product or annuity to a consumer; and (2) at the time of application for the extension of credit (if insurance products or annuities are sold, solicited, advertised, or offered in connection with an extension of credit).

5. Title: Interagency Guidance on Sound Incentive Compensation Practices.

OMB Number: 3064-0175.

Affected Public: Insured state nonmember banks and state savings associations.

Obligation to Respond: Voluntary.

Burden Estimate:

Summary of Annual Burden
| Type of burden | Estimated number of respondents | Estimated number of responses | Estimated time per response (hours) | Frequency of response | Total annual estimated burden (hours)
Document policies and procedures (Implementation) | Recordkeeping | 1 | 1 | 40 | Annual | 40
Annual maintenance of policies and procedures (Ongoing) | Recordkeeping | 2,164 | 1 | 2 | Annual | 4,328
Total Hourly Burden |  |  |  |  |  | 4,368

Methodology and Assumptions: Previously, each institution supervised by the FDIC was estimated to spend 40 hours per year maintaining a record of its policies and procedures regarding incentive based compensation. However, while an institution without any such policies and procedures may take 40 hours to completely document them for the first time, after performing the initial documentation, unless an institution needs to revise its policies and procedures, there should be no further recordkeeping burden. FDIC is using one respondent as a placeholder to represent any institution that adopt incentive based compensation for the first time. The estimate of 40 hours remains unchanged from the 2017 estimate. Supervisory experience shows that approximately 65% of large FDIC-supervised institutions revise their incentive-based compensation policies and procedures annually. FDIC estimates it takes approximately 2 hours for an institution to update its record of its policies and procedures related to incentive compensation. While a majority of the institutions supervised by the FDIC are small, and may not use incentive based compensation, or may use incentive based compensation arrangements less complex than those used at large institutions, FDIC assumes that each year approximately 65 percent of FDIC-supervised institutions will spend approximately 2 hours each revising their records of their incentive based compensation policies and procedures. As of December 31, 2019, the FDIC supervised 3,344 institutions. FDIC assumes that 2,164 (65%) of those institutions will revise their records of incentive based compensation policies and procedures each year.

General Description of Collection:This Guidance helps promote that incentive compensation policies at insured state non-member banks do not encourage excessive risk-taking and are consistent with the safety and soundness of the organization. Under this Guidance, banks are encouraged to: (i) Have policies and procedures that identify and describe the role(s) of the personnel and units authorized to be involved in incentive compensation arrangements, identify the source of significant risk-related inputs, establish appropriate controls governing these inputs to help ensure their integrity, and identify the individual(s) and unit(s) whose approval is necessary for the establishment or modification of incentive compensation arrangements; (ii) create and maintain sufficient documentation to permit an audit of the organization's processes for incentive compensation arrangements; (iii) have any material exceptions or adjustments to the incentive compensation arrangements established for senior executives approved and documented by its board of directors; and (iv) have its board of directors receive and review, on an annual or more frequent basis, an assessment by management of the effectiveness of the design and operation of the organization's incentive compensation system in providing risk-taking incentives that are consistent with the organization's safety and soundness.

6. Title: Generic Information Collection for Qualitative Research.

OMB Number: 3064-0198.

Affected Public: General public including FDIC insured depository institutions.

Burden Estimate:

Summary of Annual Burden
Information collection description | Type of burden | Obligation to respond | Estimated number of respondents | Estimated frequency of responses | Estimated time per response (minutes) | Estimated annual burden (hours)
Occasional Qualitative Surveys | Reporting | Voluntary | 500 | 20 | 60 | 10,000
Total Estimated Annual Burden |  |  |  |  |  | 10,000

General Description of Collection:The FDIC is requesting renewal of this approved collection to use occasional qualitative surveys to gather information from the public to inform qualitative research. While the subject and nature of the surveys to be deployed under this information collection are yet to be determined, based on prior experience it is expected that the number or respondents will range from a few to, at times, several thousands, but, in general, these surveys are expected to involve an average of 500 respondents. Likewise, the time to respond to the surveys can range from a few minutes to several hours, but, it is expected that the average time to respond to a survey is approximately one hour. These surveys are completely voluntary in nature. FDIC estimates that approximately 20 such surveys will be conducted in any given year.

Currently, the FDIC has a variety of methods to collect quantitative information from consumers and institutions (e.g., Call Reports, FDIC National Survey of Unbanked and Underbanked Households, etc.). Qualitative data would provide complementary information on insights, opinions, and perceptions that will inform how the FDIC approaches its mission to safeguard financial stability of the banking system and promote consumer protection and economic inclusion. This clearance would allow the FDIC to engage with consumers and other relevant stakeholders through qualitative research methods such as focus groups, in-depth interviews, cognitive testing, and/or qualitative virtual methods.

The purpose of the surveys is, in general terms, to obtain anecdotal information about regulatory burden, problems or successes in the bank supervisory process (including both safety-and-soundness and consumer-related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The collection is non-controversial and does not raise issues of concern to other Federal agencies; with the exception of information needed to provide remuneration for participants of focus groups and cognitive laboratory studies, personally identifiable information (PII) is collected only to the extent necessary and is not retained.

Participation in this information collection will be voluntary and conducted in-person, by phone, or using other methods, such as virtual technology. The types of collections that this generic clearance covers include, but are not limited to: Small discussion groups; focus groups of consumers, financial industry professionals, or other stakeholders; cognitive laboratory studies, such as those used to refine questions or assess usability of a website; qualitative customer satisfaction surveys (e.g., post-transaction surveys; opt-out web surveys); and in-person observation testing (e.g., website or software usability tests).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 12, 2020.
Robert E. Feldman,
Executive Secretary.

[FR Doc. 2020-05455 Filed 3-16-20; 8:45 am]

BILLING CODE 6714-01-P